DEPARTMENT OF DEFENSE

Department of the Army; Corps of Engineers

Intent To Prepare a Draft Environmental Impact Statement/Environmental Impact Report (DEIS/DEIR) for Proposed Future Permit Actions Under Section 404 of the Clean Water Act for the Newhall Ranch Specific Plan and Associated Facilities Along Portions of the Santa Clara River and Its Side Drainages, and Development of a Candidate Conservation Agreement with Assurances (CCAA) for the San Fernando Valley Spineflower, in Los Angeles County, California, With the U.S. Fish and Wildlife Service

AGENCY: U.S. Army Corps of Engineers, DoD.

ACTION: Revised Notice of Intent.

SUMMARY: The project proponent and landowner, The Newhall Land and Farming Company (Newhall Land), has requested a long-term Clean Water Act Section 404 permit from the Corps of Engineers for facilities associated with the Newhall Ranch Specific Plan. The action is necessary to facilitate buildout of the Specific Plan. The effect will be to authorize the construction of bridges, flood control structures, and to grade and fill certain side drainages for roads and buildings. The reason for this revised notice of intent (NOI) is because the project proponent's proposed action has been expanded to include development of a voluntary CCAA between Newhall Land and the U.S. Fish and Wildlife Service (USFWS) to specify spineflower preserve locations, manage spineflower habitat, and to authorize future take of spineflower, in the event it becomes federally listed under the federal Endangered Species Act as threatened or endangered, involving three properties: Newhall Ranch, Valencia Commerce Center, and Entrada. The Corps of Engineers intends to prepare a Draft Environmental Impact Statement (DEIS) to evaluate the potential effects of the proposed action on the environment. To eliminate duplication of paperwork, the Corps of Engineers intends to coordinate the DEIS with the Draft Environmental Impact Report (DEIR) being prepared by the California Department of Fish and Game. The joint document will meet the requirements of the National Environmental Policy Act (NEPA) as well as enable the Corps to analyze the project pursuant to the 404(b)(1) Guidelines and assess potential impacts on various public interest factors.

FOR FURTHER INFORMATION CONTACT: Questions about the proposed action and Draft EIS/EIR can be answered by Dr. Aaron O. Allen, Corps Project Manager, at (805) 585-2148. Comments shall be addressed to: U.S. Army Corps of Engineers, Los Angeles District, Ventura Field Office, ATTN: File Number 2003-01264-AOA, 2151 Alessandro Drive, Suite 110, Ventura, CA 93001. Alternatively, comments can be e-mailed to: Aaron.O.Allen@usace.army.mil.

SUPPLEMENTARY INFORMATION: 1. Project Site and Background Information. The Newhall Ranch site is located in northern Los Angeles County and encompasses approximately 12,000 acres. The Santa Clara River and State Route 126 traverse the northern portion of the Specific Plan area.

The river extends approximately 5.5 miles east to west across the site. On March 27, 2003, the Los Angeles County Board of Supervisors approved the Specific Plan, which establishes the general plan and zoning designations necessary to develop the site with residential, commercial, and mixed uses over the next 20 to 30 years. The Newhall Ranch Specific Plan also includes a Water Reclamation Plant at the western edge of the project area. Individual projects, such as residential, commercial, and industrial developments, roadways, and other public facilities would be developed over time in accordance with the development boundaries and guidelines in the approved Specific Plan. Many of these developments would require work in and adjacent to the Santa Clara River and its side drainages (“waters of the United States”).

Newhall Land would develop most of the above facilities. However, other entities could construct some of these facilities using the approvals or set of approvals issued to Newhall Land. The proposed Section 404 permit would also include routine maintenance activities to be carried out by Los Angeles County Department of Public Works using the Section 404 permit issued to Newhall Land. Any party utilizing a Section 404 permit issued to Newhall Land would be bound by the same conditions in the Section 404 permit.

The CCAA area includes Newhall Ranch and two other areas adjacent to Newhall Ranch, the Valencia Commerce Center and Entrada areas. The Valencia Commerce Center is a partially built out commercial/industrial center located east of Newhall Ranch and north of State Route 126. Entrada is a proposed residential development located east of Newhall Ranch and south of Magic Mountain Parkway.

Under the Specific Plan, Newhall Land and Farming has applied to Los Angeles County for tentative tract (subdivision) maps for portions of the Specific Plan area, Valencia Commerce Center, and Entrada. Los Angeles County is currently processing those applications, including the preparation of project-level Environmental Impact Reports for these areas.

2. Proposed Action. Newhall Land has identified various activities associated with the Newhall Ranch Project that would require Corps permitting. Many of the proposed activities would require a 404 permit because the activities would affect the riverbed or banks within the jurisdictional limits of the Corps in San Martinez Grande, Chiquito, Potrero, and Long canyons, and smaller drainages with peak flows of less than 2,000 cubic feet per second, as well as the Santa Clara River. These activities are listed and described in further detail below:

• Bank protection to protect land development projects along watercourses (including buried soil cement, ungrouted riprap, and gunite lining);

• Drainage facilities such as storm drains or outlets and partially lined open channels;

• Grade control structures;

• Bridges and drainage crossings;

• Utility crossings;

• Trails;

• Building pads;

• Activities associated with construction of a Water Reclamation Plant (WRP) adjacent to the Santa Clara River and required bank protection;

• Water quality control facilities (sedimentation control, flood debris, and water quality basins);

• Ongoing maintenance activities by the LACDPW; and

• Temporary haul routes for grading equipment.

In addition to construction of the permitted facilities identified above, the proposed action includes development of a CCAA between Newhall Land and the USFWS. The CCAA would serve to protect populations of San Fernando Valley spineflower, a species identified as a candidate for listing under the federal Endangered Species Act, which occur on the Newhall Ranch, Valencia Commerce Center, and Entrada sites. The CCAA would involve spineflower preserves and management and also authorize the take of certain spineflower plants at all three locations.

3. Scope of Analysis. The DEIS will be a project-level document which addresses a number of interrelated actions over a specific geographic area that (1) would occur as logical parts in the chain of contemplated actions, and (2) would be implemented under the same authorizing statutory or regulatory authorities. The information in the EIS will be sufficient for the Corps to make a decision regarding the issuance of a long-term Section 404 permit for the Newhall Ranch Specific Plan. The EIS will also allow the USFWS to make a decision on the CCAA.

The document will be a joint Federal and state document. The California Department of Fish and Game (CDFG) will prepare an Environmental Impact Report (EIR) in accordance with the California Environmental Quality Act for the same project regarding a state streambed alteration agreement, state endangered species permit for Newhall Ranch, and a Spineflower Conservation Plan and state endangered species permit for the Newhall Ranch, Valencia Commerce Center and Entrada areas. The Corps and CDFG will work cooperatively to prepare a joint DEIS/DEIR document, and to coordinate the public noticing and hearing processes under Federal and state laws.

The impact analysis will follow the directives in 33 CFR Part 325 Appendix B, which requires that it be limited to the impacts of the specific activities requiring a 404 permit and only those portions of the project outside of “waters of the United States” over which the Corps has sufficient control and responsibility to warrant Federal review. However, due to the varied location and extent of waters of the United States, threatened and endangered species and critical habitat, and historic and prehistoric cultural sites within the project area, there exists sufficient cumulative Federal responsibility and control to expand the geographic scope of analysis to include the entire Newhall Ranch Specific Plan site. This extension of the scope of environmental analysis will address indirect and cumulative impacts of the regulated activities, as well as connected actions pursuant to NEPA guidelines (40 CFR part 1508(a)(1)). In upland areas, the Corps will evaluate impacts to the environment and identify feasible and reasonable mitigation measures and the appropriate state or local agencies with authority to implement these measures if they are outside the authority of the Corps. In evaluating impacts to areas and resources outside the Corps' jurisdiction, the Corps will consider the information and conclusions from the Final Program EIR for the Specific Plan prepared by Los Angeles County Department of Regional Planning. However, the Corps will exercise its independent expertise and judgment in addressing indirect and cumulative impacts to upland areas due to issuance of the proposed Section 404 permit.

4. Significant Issues. There are several potential environmental issues that will be addressed in the DEIS/DEIR. Additional issues may be identified during the scoping process. Issues initially identified as potentially significant include:

(a) Surface Water Hydrology, Erosion and Sedimentation;

(b) Groundwater;

(c) Water Quality;

(d) Biological Resources;

(e) Jurisdictional Streams and Wetlands;

(f) Air Quality;

(g) Traffic;

(h) Noise;

(i) Cultural Resources;

(j) Paleontological Resources;

(k) Agriculture and Soils;

(l) Geology and Geologic Hazards;

(m) Land Use;

(n) Visual Resources;

(o) Parks, Recreation, and Trails;

(p) Public Safety;

(q) Public Services;

(r) Hazards and Hazardous Materials;

(s) Socioeconomics/Environmental Justice:

(t) Significant, Irreversible Environmental Changes.

5. Alternatives. Alternatives initially being considered for the proposed improvement project include the following:

(a) Numerous alternate locations and configurations of various proposed facilities such as buried bank stabilization, bridges, and grade control structures, along each of the major side drainages including Chiquito Canyon, Potrero Canyon, San Martinez Grande, and Long Canyon, as well as the Santa Clara River, ranging from no impact to the proposed action and configurations of various proposed San Fernando Valley Spineflower Preserve areas;

(b) Under the No Federal Action alternative, the proposed Section 404 permit would not be issued, so no discharges of fill material within Corps jurisdictional waters would be authorized. This alternative will be analyzed in the DEIS/DEIR to satisfy NEPA requirements to evaluate the impacts of “No Federal Action” alternative.

6. Scoping Process. A previous NOI was published in the Federal Register on January 29, 2004 (69 FR 4295-4296). Public scoping meetings to receive input on the scope of the DEIS/EIR were previously conducted on February 4, 2000 in Santa Clarita and February 19, 2004 in Castaic, California. An additional public scoping meeting will be held on August 24, 2005, at 6:30 pm, at the Castaic Middle School Multipurpose Room located at 28900 West Hillcrest Parkway, Castaic, CA.

Participation in the scoping is encouraged by Federal, state, and local agencies, and other interested private citizens and organizations. The Corps will be the federal lead agency and the USFWS will be a cooperating agency for this DEIS/EIR. Other environmental review and consultation requirements, not discussed above, include a USFWS Section 7 Biological Opinion, State Historic Preservation Office consultation, and a 401 certification and National Pollutant Discharge Elimination System (NPDES) permit from the Los Angeles Regional Water Quality Control Board.

7. Availability of the Draft EIS/EIR. The joint lead agencies expect the Draft EIS/EIR to be made available to the public in late 2005. Written comments on the DEIS/DEIR will be received once that document is released. A public hearing will be held during the public comment period for the Draft EIS/EIR.

Dated: July 11, 2005.
Brian M. Moore,
Deputy District Engineer for Project Management.

[FR Doc. 05-14181 Filed 7-18-05; 8:45 am]

BILLING CODE 3710-92-P